OFFICE OF MANAGEMENT AND BUDGET

Public Availability of Fiscal Year 2016 Agency Inventories Under the Federal Activities Inventory Reform Act

AGENCY: Office of Management and Budget, Executive Office of the President.

ACTION: Notice of public availability of Agency Inventories of Activities that are not inherently Governmental and of Activities that are inherently Governmental.

SUMMARY: The Federal Activities Inventory Reform (FAIR) Act, requires agencies to develop inventories each year of activities performed by their employees that are not inherently governmental functions. The FAIR Act further requires OMB to review the inventories in consultation with the agencies. Once that review is complete, agencies are required to make the list available to the public and OMB must publish a notice of public availability in the Federal Register. In accordance with the FAIR Act, OMB is publishing this notice to announce the availability of inventories for Fiscal Year (FY) 2016 from the agencies listed below. These inventories identify activities that are not inherently governmental and those activities that are inherently governmental. If an agency has not yet posted its inventory on its website, the agency's point of contact should be able to assist. As provided in the FAIR Act, interested parties who disagree with the agency's initial judgment may challenge the inclusion or the omission of an activity on the list of activities that are not inherently governmental within 30 working days of this Notice and, if not satisfied with this review, may appeal to a higher level within the agency.

John Mulvaney,
Director.

Attachment: FAIR Act Release FY 2016

| Agency | Point of contact | Email | Telephone | Website
Chief Financial Officer (CFO) Act Agencies
1. | Department of Commerce | Virna Winters | vwinters@doc.gov | 202-482-3483 | www.commerce.gov.
2. | Department of Defense | Sara Streff Warren Champ | Sara.l.Streff.civ@mail.mil Warren.Champ@DODIG.MIL | 571-372-6843 703-699-5418 | www.acq.osd.mil. http://www.dodig.mil.
3. | Department of Education | Michele Moore | Michele.moore@ed.gov | 202-245-6194 | http://www.ed.gov.
4. | Department of Energy | Jeff Davis | jeff.davis@hq.doe.gov | 202-287-1877 | http://energy.gov.
5. | Department of Health and Human Services | William Kim | William.Kim@hhs.gov | 202-205-1341 | http://www.hhs.gov/.
6. | Department of Homeland Security | Katherine Chimera | katherine.chimera@hq.dhs.gov | 202-447-0177 | www.dhs.gov.
7. | Department of Housing and Urban Development | Maria Milligan | Maria.L.Milligan@HUD.gov | 202-402-6417 | http://portal.hud.gov.
8. | Department of the Interior | Samantha Brownstein | samantha_brownstein@ios.doi.gov | 202-513-0699 | www.doi.gov.
9. | Department of Justice | Neil Ryder | Neil.Ryder@usdoj.gov | 202-616-5499 | http://www.justice.gov/.
10. | Department of Labor | Tanisha Bynum-Frazier | bynum.frazier.t@dol.gov | 202-693-4546 | www.dol.gov.
11. | Department of State | Kenneth Black | blackkh@state.gov | 202-485-7211 | http://www.state.gov.
12. | Department of Transportation | Diane Morrison | diane.morrison@dot.gov | 202-366-4960 | www.dot.gov.
13. | Department of the Treasury | Kim Steide | kimberly.steide@treasury.gov | 202-622-9490 | http://www.treasury.gov/.
14. | Department of Veterans Affairs | Julie Plush | Julie.Plush@va.gov | 202-297-2166 | http://www.va.gov.
15. | Environmental Protection Agency | Jennifer Cranford | Cranford.Jennifer@epa.gov | 202-564-0798 | www.epa.gov.
16. | General Services Administration | James Summers | James.summers@gsa.gov | 202-322-0453 | www.gsa.gov.
17. | National Aeronautics and Space Administration | Dan Walt | daniel.j.walt@nasa.gov | 202-358-1444 | http://www.nasa.gov/.
18. | National Science Foundation | Kurtis Shank | kshank@nsf.gov | 703-292-2261 | www.nsf.gov.
19. | Nuclear Regulatory Commission | Beverly Anker | beverly.anker@nrc.gov | 301-287-0853 | www.nrc.gov.
20. | Office of Personnel Management | Greg Blaszko | Gregory.Blaszko@opm.gov | 215-861-3051 | http://www.opm.gov/.
21. | Small Business Administration | Laura Wages | laura.wages@sba.gov | 202-205-6156 | www.sba.gov.
22. | Social Security Administration | Mary Jo Mullin | mary.jo.mullin@ssa.gov | 410-966-6068 | www.socialsecurity.gov.
23. | United States Agency for International Development | Nancy Sanders Durosseau | ndurosseau@usaid.gov | 202-712-4236 | www.usaid.gov.
24. | United States Department of Agriculture | Mauricio Lainez | mauricio.lainez@rma.usda.gov | 202-720-8710 | http://www.usda.gov.
Non-CFO Act Agencies
1. | Broadcasting Board of Governors | Chris Luer | cluer@bbg.gov | 202-203-4608 | www.bbg.gov.
2. | Commodity Futures Trading Commission | Alice Macklin | AMacklin@CFTC.gov | 202-418-5860 | www.cftc.gov.
3. | Consumer Financial Protection Bureau | Roland Jacob | Roland.Jacob@cfpb.gov | 202-435-9625 | www.consumerfinance.gov.
4. | Consumer Product Safety Commission | Barbara Denny | bdenny@cpsc.gov | 301-504-7246 | http://www.cpsc.gov.
5. | Court Services and Offender Supervision Agency for the District of Columbia | Paul Girardo | Paul.Girardo@csosa.gov | 202-220-5718 | https://www.csosa.gov/.
6. | Defense Nuclear Facilities Safety Board | Gwendolyn Archer-Pailen | gwendolyna@dnfsb.gov | 202-694-7061 | http://www.dnfsb.gov.
7. | Equal Employment Opportunity Commission | Christine Nalli | Christine.nalli@eeoc.gov | 202-663-4316 | http://www.eeoc.gov.
8. | Farm Credit Administration | Veronica McCain | McCainV@fca.gov | 703-883-4031 | www.fca.gov.
9. | Federal Communications Commission | Tom Green | Tom.Green@fcc.gov | 202-418-0116 | www.fcc.gov.
10. | Federal Election Commission | Gilbert Ford | gford@fec.gov | 202-694-1216 | www.fec.gov.
11. | Federal Energy Regulatory Commission | Nicole Yates | Nicole.Yates@ferc.gov | 202-502-6327 | www.ferc.gov.
12. | Federal Housing Financing Agency | Natalie Jolly | Natalie.Jolly@fhfa.gov | 202-649-3781 | www.fhfa.gov.
13. | Federal Labor Relations Authority | Mike Jeffries | mjeffries@flra.gov | 202-218-7982 | http://www.flra.gov.
14. | Federal Maritime Commission | Kathleen Keys | kkeys@fmc.gov | 202-523-5788 | www.fmc.gov.
15. | Federal Mediation & Conciliation Service | Paul Voight | pvoight@fmcs.gov | 202-606-5464 | www.fmcs.gov.
16. | Federal Retirement Thrift Investment Board | Sandra Byers | Sandra.Byers@tsp.gov | 202-864-8664 | http://www.frtib.gov.
17. | Federal Trade Commission | Paula Chandler | Pchandler@ftc.gov | 202-326-2055 | http://www.ftc.gov.
18. | Holocaust Memorial Museum | Helen Shepherd | hshepherd@ushmm.org | 202-488-0400 x396 | http://www.ushmm.org.
19. | International Trade Commission | Debra Bridge | Debra.Bridge@usitc.gov | 202-205-2004 | www.usitc.gov.
20. | Merit Systems Protection Board | Nancie Kebioh-Gray | nancie.kebioh-gray@mspb.gov | 202-254-4513 | www.mspb.gov.
21. | National Archives and Records Administration | Kimberly Richardson | kimberly.richardson@nara.gov | 301-837-2902 | www.archives.gov.
22. | National Endowment for the Arts | Ned Read | readn@arts.gov | 202-682-5782 | www.arts.gov.
23. | National Endowment for the Humanities | Robert Straughter | rstraughter@neh.gov | 202-606-8237 | www.neh.gov.
24. | National Labor Relations Board | Marsha Porter | Marsha.Porter@nlrb.gov | 202-273-3726 | http://www.nlrb.gov.
25. | National Transportation Safety Board | Lisa Kleiner | Lisa.Kleiner@ntsb.gov | 202-314-6462 | www.ntsb.gov.
26. | Office of Management and Budget | Amanda Sousane | akepko@omb.eop.gov | 202-395-4844 | www.whitehouse.gov.
27. | Office of Special Counsel | Ryan Pope | rpope@osc.gov | 202-804-7105 | http://www.osc.gov/.
28. | Office of the United States Trade Representative | Deborah Tidwell | Deborah_Tidwell@ustr.eop.gov | 202-395-9410 | https://ustr.gov/.
29. | Peace Corps | Amanda Miesionczek | amiesionczek@peacecorps.gov | 202-509-6533 | www.peacecorps.gov.
30. | Railroad Retirement Board | Keith Earley | Keith.Earley@rrb.gov | 312-751-4990 | www.rrb.gov.
31. | Securities and Exchange Commission | Melissa Csigi | csigim@sec.gov | 202-551-7647 | www.sec.gov.
32. | Selective Service System | Vernetta Fields | Vernetta.fields@sss.gov | 703-605-4040 | www.sss.gov.

[FR Doc. 2018-03349 Filed 2-16-18; 8:45 am]

BILLING CODE 3110-01-P